OFFICE OF THE UNITED STATES TRADE REPRESENTATIVE

Notice of Conforming and Technical Amendments: China's Acts, Policies, and Practices Related to Technology Transfer, Intellectual Property, and Innovation

AGENCY: Office of the United States Trade Representative (USTR).

ACTION: Notice.

SUMMARY: This notice makes one conforming amendment and one technical amendment to the reinstated exclusions in the Section 301 investigation of China's Acts, Policies, and Practices Related to Technology Transfer, Intellectual Property, and Innovation.

DATES: The conforming amendment announced in Annex I to this notice applies as of January 1, 2023. The technical amendment announced in Annex II to this notice is retroactive to the date of publication of the original exclusion.

FOR FURTHER INFORMATION CONTACT: For general questions about this notice, contact Associate General Counsel Philip Butler or Assistant General Counsel Rachel Hasandras at (202) 395-5725. For specific questions on customs classification or implementation of the product exclusions identified in the Annex to this notice, contact traderemedy@cbp.dhs.gov.

SUPPLEMENTARY INFORMATION:

A. Background

The U.S. Trade Representative has taken actions under Section 301 of the Trade Act of 1974, as amended, in the form of additional duties on products of China in the investigation of China's Acts, Policies, and Practices Related to Technology Transfer, Intellectual Property, and Innovation. The China 301 actions are set out in notes to the Harmonized Tariff Schedule of the United States (HTSUS). See, e.g., 87 FR 26797 (Section A—summarizing the trade actions and modifications). The U.S. Trade Representative modified these actions by issuing product specific exclusions. Certain exclusions were extended in 2019 and 2020, but most exclusions expired at the end of 2020. In March 2022, USTR reinstated certain previously extended exclusions. These reinstated exclusions were recently extended through September 30, 2023. See 87 FR 78187 (December 21, 2022).

B. Conforming Amendment

Effective January 1, 2023, the United States International Trade Commission, in cooperation with the interagency Committee for Statistical Annotation of Tariff Schedules, implemented certain changes in ten-digit statistical reporting categories of the HTSUS and in Schedule B under section 484(f) of the Tariff Act of 1930, 19 U.S.C. 1484(f). One of the reinstated product exclusions set out at 87 FR 17380 (March 28, 2022), is based on one of the amended statistical reporting categories. To maintain the pre-existing product coverage of the China 301 actions, a conforming amendment to the corresponding note provision in the HTSUS is required.

Annex I to this notice makes a conforming amendment to U.S. note 20 subdivision (ttt)(iv)(42), as set out in the Annex to the notice published at 87 FR 17380 (March 28, 2022) in the above-titled investigation under Section 301.

C. Technical Amendment

Annex II to this notice makes a technical amendment to U.S. note subdivisions 20(qq)(20), 20(iii)(50) and 20(ttt)(iii)(36) to subchapter III of chapter 99 of the HTSUS, as set out in the Annexes of the notices published at 85 FR 6674 (February 5, 2020), 85 FR 48600 (August 11, 2020), and 87 FR 17380 (March 28, 2022), to correct the description of the articles covered by one of the reinstated exclusions.

Like all exclusions under this Section 301 investigation, the amendments in this notice apply to entries of goods that are not liquidated or to entries that are liquidated, but not final. U.S. Customs and Border Protection will issue instructions on entry guidance and implementation.

Annex I

Effective with respect to goods entered for consumption, or withdrawn from warehouse for consumption, on or after 12:01 a.m. eastern daylight time on January 1, 2023, note 20(ttt)(iv)(42) to subchapter III of chapter 99 of the HTSUS is modified by deleting “9404.90.1000” and by inserting “9404.90.1000 prior to January 1, 2023; described in statistical reporting number 9404.90.1060 or statistical reporting number 9404.90.1090 effective January 1, 2023” in lieu thereof.

Annex II

1. Effective with respect to goods entered for consumption, or withdrawn from warehouse for consumption, on or after 12:01 a.m. eastern daylight time on September 24, 2018, and through August 7, 2020, U.S. note 20(qq)(20) to subchapter III of chapter 99 of the HTSUS is modified by deleting “cuprous oxide and” and by inserting “copper oxide or” in lieu thereof.

2. Effective with respect to goods entered for consumption, or withdrawn from warehouse for consumption, on or after 12:01 a.m. eastern daylight time on August 7, 2020, and through December 31, 2020, U.S. note 20(iii)(50) to subchapter III of chapter 99 of the HTSUS is modified by deleting “cuprous oxide and” and by inserting “copper oxide or” in lieu thereof.

3. Effective with respect to goods entered for consumption, or withdrawn from warehouse for consumption, on or after 12:01 a.m. eastern daylight time on October 12, 2021, and through September 30, 2023, U.S. note 20(ttt)(iii)(36) to subchapter III of chapter 99 of the HTSUS is modified by deleting “cuprous oxide and” and by inserting “copper oxide or” in lieu thereof.

Greta Peisch,
General Counsel, Office of the United States Trade Representative.

[FR Doc. 2023-02835 Filed 2-9-23; 8:45 am]

BILLING CODE 3390-F3-P